DEPARTMENT OF HOUSING AND URBAN DEVELOPMENT

[Docket No. FR-5415-N-10]

Announcement of Funding Awards for Fiscal Year 2010 Doctoral Dissertation Research Grant Program

AGENCY: Office of the Assistant Secretary for Policy Development and Research, HUD.

ACTION: Announcement of funding awards.

SUMMARY: In accordance with Section 102(a)(4)(C) of the Department of Housing and Urban Development (HUD) Reform Act of 1989, this document notifies the public of funding awards for the Fiscal Year (FY) 2010 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8226, 451 Seventh Street, SW., Washington, DC 20410, Telephone (202) 402-3852. To provide service for persons who are hearing-or speech-impaired, this number may be reached via TTY by dialing the Federal Information Relay Service on (800) 877-8339 or (202) 708-1455. (Telephone numbers, other than “800” TTY numbers, are not toll free).

SUPPLEMENTARY INFORMATION: The DDRG Program was created as a means of expanding the number of researchers conducting research on subjects of interest to HUD. Doctoral candidates can receive grants of up to $25,000 to complete work on their dissertations. Grants are awarded for a two-year period.

The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517.

On July 16, 2010, a Notice of Funding Availability (NOFA) for this program was posted on Grants.gov announcing the availability of $400,000 in FY 2010 for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545). More information about the winners can be found at http://www.oup.org.

Dated: September 17, 2010.
Raphael W. Bostic,
Assistant Secretary for Policy Development and Research.

List of Awardees for Grant Assistance Under the Fiscal Year (FY) 2010 Doctoral Dissertation Research Grant Program Funding Competition, by Institution, Address, Grant Amount and Name of Student Funded

1. The George Washington University, Mr. Anthony Yezer, The George Washington University, 2121 I Street, NW, Suite 601, Washington, DC 20052. Grant: $14,500 to William Larson.

2. President and Fellows of Harvard College, Mr. Robert J. Sampson, President and Fellows of Harvard College, 1350 Massachusetts Avenue, Cambridge, MA 02138. Grant: $25,000 to Corina Graif.

3. Northeastern University, Dr. Barry Bluestone, Northeastern University, 360 Huntington Avenue, Boston, MA 02115. Grant: $24,960 to Justin Betz.

4. The Trustees of Columbia University in the City of New York, Dr. Angela Aidala, The Trustees of Columbia University in the City of New York, 630 W. 168th Street, Box 49, New York, NY 10032. Grant: $24,765 to Jocelyn Apicello.

5. Colorado Seminary-University of Denver, Dr. Jean East, Colorado Seminary-University of Denver, 2199 S. University Blvd., Denver, CO 80208. Grant: $11,547 to Laurie Walker.

6. Brandeis University, Mr. Tom Shapiro, Brandeis University, 415 South Street, Waltham, MA 02454. Grant: $ 25,000 to Hannah Thomas.

7. President and Fellows of Harvard College, Dr. Antoine Picon, President and Fellows of Harvard College, 1350 Massachusetts Avenue, Cambridge, MA 02138. Grant: $25,000 to Wanda Liebermann.

8. New York University, Dr. Ingrid Gould Ellen, New York University, 665 Broadway, Suite 801, New York, NY 10012. Grant: $25,000 to Keren Horn.

9. The Regents of the University of California, Mr. John Hipp, The Regents of the University of California, 5171 California Avenue, Suite 150, Irvine, CA 92697. Grant: $24,725 to Alyssa Whitby Chamberlain.

10. The Regents of the University of California, Ms. Katen Chapple, The Regents of the University of California, 2150 Shattuck Avenue, Suite 313, Berkeley, CA 94704. Grant: $25,000 to Anne Martin.

11. The University of Chicago, Mr. Rob Chaskin, The University of Chicago, 5801 S. Ellis Avenue, Chicago, IL 60637. Grant: $25,000 to Benjamin Roth.

12. University of Maryland, Ms. Alexander Chen, University of Maryland, 3112 Lee Building, College Park, MD 20742. Grant: $25,000 to Lynette Boswell.

13. The Regents of the University of California, Dr. Julian Chow, The Regents of the University of California, 2150 Shattuck Avenue, Suite 313, Berkely, CA. 94704. Grant: $25,000 to Catherine Vu.

14. The Trustees of Columbia University in the City of New York, Mr. Robert Beauregard, The Trustees of Columbia University in the City of New York, 1210 Amsterdam Avenue, Mail Code 2205, New York, NY 10027. Grant: $25,000 to James Connolly.

15. The Regents of the University of California, Richard Walker, The Regents of the University of California, 2150 Shattuck Avenue, Suite 313, Berkely, CA 94704. Grant: $24,505 to Catherine Guimond.

16. The New School, Alex Schwartz, The New School, 66 West 12th Street, New York, NY 10011. Grant: $25,000 to Jamie Taylor.

17. Board of Trustee of the University of Illinois, Dr. Laura Lawson, Board of Trustee of the University of Illinois, 1901 S. First Street, Suite A, Champaign, IL 61820. Grant: $24,998 to Abbilyn Harmon.

[FR Doc. 2010-24614 Filed 9-30-10; 8:45 am]

BILLING CODE 4210-67-P